DEPARTMENT OF HEALTH AND HUMAN SERVICES

Centers for Disease Control and Prevention

[Docket No. CDC-2014-0003]

Draft Guideline—Centers for Disease Control and Prevention Draft Guideline for the Prevention of Surgical Site Infections

AGENCY: Centers for Disease Control and Prevention (CDC), Department of Health and Human Services (DHHS).

ACTION: Reopening of public comment period.

SUMMARY: On January 29, 2014 the Centers for Disease Control and Prevention (CDC), located within the Department of Health and Human Services (HHS) published a notice in the Federal Register requesting public comment on the Draft Guideline for the Prevention of Surgical Site Infections (SSIs) (draft Guideline) (79 FR 4724). Written comments were to be received on or before February 28, 2014. Some commenters requested additional time to review the guideline and provide comments. In consideration of these requests, HHS/CDC is reopening the comment period for 30 days.

DATES: Comments must be received on or before May 8, 2014.

ADDRESSES: You may submit comments, identified by CDC-2014-0003, by any of the following methods:

• Federal eRulemaking Portal: http://www.regulations.gov. Follow the instructions for submitting comments.

• Mail: Division of Healthcare Quality Promotion, National Center for Emerging and Zoonotic Infectious Diseases, Centers for Disease Control and Prevention, Attn: Guideline for the Prevention of Surgical Site Infections Docket No. CDC-2014-0003, 1600 Clifton Rd. NE., Mailstop A07, Atlanta, Georgia, 30333.

Instructions: All submissions received must include the agency name and docket number or RIN. All relevant public comments received will be posted publicly to www.regulations.gov without change, including any personal or proprietary information provided. To download an electronic version of the draft Guideline and appendices, access http://www.regulations.gov.

Written materials identified by Docket No. CDC-2014-0003 will be available for public inspection Monday through Friday, except for legal holidays, 9 a.m. until 4:30 p.m. Eastern Standard Time, at CDC Library, 1600 Clifton Road NE., Atlanta, Georgia, 30333. Please call ahead to (404) 639-1717 and request a Library representative schedule your visit. All public comments will be reviewed and considered prior to finalizing the draft Guideline.

FOR FURTHER INFORMATION CONTACT: Erin Stone, Division of Healthcare Quality Promotion, National Center for Emerging and Zoonotic Infectious Diseases, Centers for Disease Control and Prevention, 1600 Clifton Road NE., Mailstop A-31, Atlanta, Georgia, 30333; Telephone: (404) 639-4000.

SUPPLEMENTARY INFORMATION: The draft Guideline addresses new and updated strategies for the prevention of SSI in healthcare settings. This draft Guideline can be found at http://www.regulations.gov Docket No. CDC-2014-0003.

CDC also published the supporting appendices that include primary evidence, study evaluation, and data evaluation tables that were used in developing the draft Guideline recommendations.

The draft Guideline is designed for use by infection prevention staff, healthcare epidemiologists, administrators, nurses, and personnel responsible for developing, implementing, and evaluating infection prevention and control programs for healthcare settings across the continuum of care. The recommendations contained in the draft Guideline are based on a targeted systematic review of the best available evidence for specific topics related to the prevention of surgical site infections (SSI).

Since 2010 CDC has collaborated with national partners, academicians, public and private health professionals, and other partners to create this draft Guideline. Additionally, CDC sought input in each phase of development from subject matter experts in surgery, infectious diseases, and orthopedics through a Guideline Expert Panel formed to develop the new draft Guideline. CDC also received input from the Healthcare Infection Control Practices Advisory Committee (HICPAC) throughout the development of the draft Guideline. HICPAC includes representatives from public health, infectious diseases, regulatory and other federal agencies, professional societies, and other stakeholders. This new draft Guideline will not be a federal rule or regulation.

Dated: April 3, 2014.
Ron A. Otten,
Acting Deputy Associate Director for Science, Centers for Disease Control and Prevention.

[FR Doc. 2014-07783 Filed 4-7-14; 8:45 am]

BILLING CODE 4163-18-P